DEPARTMENT OF THE INTERIOR

Bureau of Indian Affairs

Pueblo of Nambé Liquor Ordinance

AGENCY: Bureau of Indian Affairs, Interior.

ACTION: Notice.

SUMMARY: This notice publishes the Pueblo of Nambé Liquor Ordinance. The Ordinance regulates and controls the possession, sale and consumption of liquor within the Pueblo of Nambé Indian Reservation. The Reservation is located on trust land and this Ordinance allows for the possession and sale of alcoholic beverages within the exterior boundaries of the Pueblo of Nambé Indian Reservation. This Ordinance will increase the ability of the tribal government to control the community's liquor distribution and possession, and at the same time will provide an important source of revenue for the continued operation and strengthening of the tribal government and the delivery of tribal services.

DATES: Effective Date: This Ordinance is effective on February 2, 2006.

FOR FURTHER INFORMATION CONTACT: Iris Drew, Tribal Government Services Officer, Southwest Regional Office, 1001 Indian School Road, Albuquerque, New Mexico 87104, Telephone (505) 563-3530; Fax (505) 563-3060; or Ralph Gonzales, Office of Tribal Services, 1951 Constitution Avenue, NW., Mail Stop 320-SIB, Washington, DC 20240; Telephone (202) 513-7629.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Nambé Tribal Council adopted its Liquor Ordinance by Resolution No. NP-2005-27 on November 30, 2005. The purpose of this Ordinance is to govern the sale, possession and distribution of alcohol within the Pueblo of Nambé Indian Reservation.

This notice is published in accordance with the authority delegated by the Secretary of the Interior to the Principal Deputy Assistant Secretary—Indian Affairs. I certify that this Liquor Ordinance of the Pueblo of Nambé was duly adopted by the Tribal Council on November 30, 2005.

Dated: January 27, 2006.
Michael D. Olsen,
Acting Principal Deputy Assistant Secretary—Indian Affairs.

The Pueblo of Nambé Liquor Ordinance reads as follows:

Pueblo of Nambé Liquor Ordinance 2005

1. Purpose. The purpose of the Pueblo of Nambé Liquor Ordinance is to establish limitations and standards for the legalization of the introduction, sale and possession of alcohol within the Pueblo of Nambé lands as a means to provide revenue to serve the best interests of the Pueblo.

2. Definitions. As used in this Ordinance, the following definitions shall apply:

A. “Alcohol” or “Liquor” includes the four varieties of liquor commonly referred to as alcohol, spirits, wine, and beer, and all fermented, spirituous, vinous, or malt liquor, or combinations thereof, and mixed liquor, a part of which is fermented, spirituous, vinous, or malt liquor or otherwise intoxicating, and every liquor or solid or semisolid or other substance, patented or not, containing alcohol, spirits, wine, or beer.

B. “Package” means any container or receptacle used for holding liquor.

C. “Person” means any individual, business, or other legal entity.

D. “Pueblo” means the Pueblo of Nambé, a federally recognized Tribe of Indians.

E. “Reservation” means all lands within the exterior boundaries of the Pueblo of Nambé, including rights-of-way, lands owned by or for the benefit of the Pueblo, tribally purchased lands, and lands that may be leased by the Pueblo of Nambé.

F. “Sale” includes the exchange, barter, traffic, donation, selling, supplying, or distribution of liquor.

G. “Tribal Council” means the Pueblo of Nambé Tribal Council.

3. State Law. Unless otherwise provided in this Ordinance, standards for the sale and transaction of liquor shall be in conformity with the laws of the State of New Mexico, as required by, and in accordance with § 18 U.S.C. 1161.

4. Sale and Possession.

A. Sales Limited. Sales of liquor are allowed on the following lands:

i. Pueblo lands as assigned to the Pueblo of Nambé Gaming Enterprise by the Tribal Council.

ii. Pueblo lands assigned to the Nambé Pueblo Development Corporation by the Tribal Council.

iii. Other lands, individuals and entities only as permitted by Tribal Council Resolution.

B. Sales for Personal Use; Resale Prohibited. All sales allowed by this Ordinance shall be personal use of the individual purchaser. Such sales for personal use must be in package form or by the drink. Resale of any liquor is prohibited and violators shall be in violation of this Ordinance and subject to penalties.

C. Limited to Adults. All handling, stocking, possession, and sale of liquor shall be made by persons twenty-one (21) years of age or older. Proof of age must be shown by a current and valid state driver's license or other government issued identification that contains birth date and photo of the holder of the license or identification.

D. Right to Refuse Sale. Any person authorized to sell liquor within the Pueblo shall have the authority to refuse to sell liquor to any person unable to produce proof of age and identity.

E. Liability Insurance. Any person authorized to sell liquor within the Pueblo shall obtain general liability insurance in the amount not less than $1,000,000 (one million dollars) per occurrence.

F. Tribal-State Compact. Any person authorized to dispense, sell, serve or deliver alcohol within a gaming establishment shall conform to all alcohol provisions contained in the current Tribal-State Gaming Compact.

5. Tribal License.

A. Tribal Council Authorization. Any person may be authorized to engage in the wholesale purchase, sale, or distribution of liquor within Pueblo Reservation boundaries upon terms and conditions approved by Tribal Council Resolution. Any person granted such approval by Tribal Council Resolution will be deemed to have a Pueblo of Nambé liquor license.

B. License Revocation. Tribal Council has the authority to revoke a Tribal liquor license for any violations arising from this Ordinance or other Pueblo Law and Order Code violations.

6. Offenses. Any person who violates this Ordinance is subject to a civil penalty, at a minimum. Offenses include, but are not limited to, the following:

A. Sales to Minors. No sale of liquor shall be made to any person under the age of twenty-one (21).

B. Purchase by Minors. Any person under the age of twenty-one (21) who purchases, attempts to purchase, or possesses any liquor shall be in the violation of this Ordinance.

C. Unauthorized Sale. It shall be a violation of this ordinance for any person within the boundaries of the Pueblo Reservation to:

i. Buy liquor from any person other than those properly authorized by Tribal Council Resolution and in compliance with this Ordinance, or

ii. Sell alcohol outside the portion of the Pueblo Reservation authorized for sale by that license.

D. Intoxicated Persons. It shall be a violation of this ordinance for any person to sell liquor to an intoxicated person.

E. Other violations of this Ordinance.

7. Penalties.

A. Civil Penalty. Any person, business, or other legal entity purchasing, possessing, selling, delivering, bartering, or manufacturing liquor products in violation of any part of this Ordinance, or of any rule or regulation adopted pursuant to this Ordinance, shall be subject to a civil assessment of not more than one thousand dollars ($1000) for each violation.

B. Criminal Penalty. In addition to civil penalties, a person, business, or other legal entity may be subject to criminal prosecution by the Pueblo for the purchasing, possessing, selling, delivering, bartering, or manufacturing liquor products in violation of any part of this Ordinance, or of any rule or regulation adopted pursuant to this Ordinance.

C. Contraband. All contraband merchandise shall be confiscated by the Pueblo and disposed of as directed by the Tribal Council.

8. Sovereign Immunity Reserved. Nothing in this Ordinance shall be construed as a waiver of sovereign immunity or rights of the Pueblo.

9. Amendments. This Ordinance may be amended by the Tribal Council, subject to approval by the Secretary of the Interior or the Secretary's designee.

10. Effective Date. This Ordinance shall be in effect upon the date of publication in the Federal Register by the Secretary of the Interior or the Secretary's designee.

[FR Doc. E6-1395 Filed 2-1-06; 8:45 am]

BILLING CODE 4310-4J-P